DEPARTMENT OF EDUCATION

[CFDA No.: 84.365C]

Office of English Language Acquisition; Native American and Alaska Native Children in School Program; Notice Inviting Applications for New Awards for Fiscal Year (FY) 2003; Correction

On December 30, 2002, the Assistant Secretary published a notice in the Federal Register (67 FR 79581 through 79587) inviting applications for new awards for the Native American and Alaska Native Children in School Program. The standard and program specific forms that were supposed to be included in the notice were inadvertently excluded. This notice includes all of these forms. All other information provided in the December 20 notice remains the same.

Electronic Access to This Document

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office toll free at 1-800-293-6498; or in the Washington, DC area at (202) 512-1530.

Note: The official version of this document is the document published in the Federal Register. Free Internet access to the official edition of the Federal Register and the Code of Federal Regulations is available on the GPO Access at: http://www.access.gpo.gov/nara/index.html.

FOR FURTHER INFORMATION CONTACT: Samuel Lopez, Office of English Language Acquisition, U.S. Department of Education, 400 Maryland Avenue, SW., Room MES 5605, Washington, DC 20202-6400. Telephone: 202-401-1427, or via the Internet: samuel.lopez@ed.gov.

If you use telecommunications device for the deaf (TDD), you may call the Federal Information Relay Service (FIRS) at 1-800-877-8339.

Program Authority: 20 U.S.C. 6821(c), 6822.

Dated: January 31, 2003.
Maria Hernandez Ferrier,
Director, Office of English Language Acquisition, Language Enhancement, and Academic Achievement for Limited English Proficient Students.

[FR Doc. 03-3042 Filed 2-6-03; 8:45 am]

BILLING CODE 4000-01-C